DEPARTMENT OF JUSTICE

Federal Bureau of Investigation

[Docket No. FBI 122]

FBI Records Management Division National Name Check Program Section User Fees

AGENCY: Federal Bureau of Investigation (FBI), Justice.

ACTION: Notice.

SUMMARY: This notice establishes the user fee schedule for federal agencies requesting name-based background checks of the FBI's National Name Check Program for noncriminal justice purposes. These checks of the Central Records System are performed by the Records Management Division.

DATES: Effective Date: June 7, 2010.

FOR FURTHER INFORMATION CONTACT: FBI, RMD, National Name Check Program Section, 170 Marcel Drive, Winchester, VA 22602, Attention: Michael Cannon, 540 868-4400.

SUPPLEMENTARY INFORMATION: Pursuant to the authority in Public Law 101-515 as amended, the FBI has established user fees for federal agencies requesting noncriminal name-based background checks of the Central Records System (CRS) through the National Name Check Program (NNCP) of the Records Management Division (RMD). The final rule, to be codified under 28 CFR 20.31 (f), is set out elsewhere in today's issue of the Federal Register.

The following fee schedule provides the user fees for name-based CRS checks by the NNCP through the FBI's RMD.

Name-based NNCP Checks
If the check is a/an | The fee is
Electronic transaction:
Batch Process Only | $1.50
Batch + File Review | 29.50
Manual Submission | 56.00
Expedited Submission | 56.00

This fee schedule will become effective 30 days following publication of this notice.

Dated: April 29, 2010.
Robert S. Mueller, III,
Director, Federal Bureau of Investigation.

[FR Doc. 2010-10626 Filed 5-5-10; 8:45 am]

BILLING CODE 4410-02-P